SOCIAL SECURITY ADMINISTRATION

[Docket No. SSA-2009-0088]

Rate of Payment for Medical Records Received Through Health Information Technology (IT) Necessary To Make Disability Determinations

AGENCY: Social Security Administration.

ACTION: Notice of a uniform national rate of Federal payment for medical records received through health IT.

SUMMARY: We have set $15 as the reasonable reimbursement to non-Federal medical providers for their costs in supplying medical records through health IT in response to a request. We will pay the uniform national rate to a medical provider that satisfies a medical records request through health IT. We are establishing this uniform national rate under our authority in sections 205(a), 223(d)(5)(A) and 1631(e) of the Social Security Act (Act).

DATES: We are establishing the reasonable rate for medical records received through health IT in response to our requests on or after the date of publication of this notice. We will periodically review this rate and publish updates in the Federal Register.

FOR FURTHER INFORMATION CONTACT: Cheryl Elksnis, Office of Disability Programs, Social Security Administration, 6401 Security Boulevard, Baltimore, MD 21235-6401, 410-966-0497, for information about this notice. For information on eligibility or filing for benefits, call our national toll-free number, 1-800-772-1213 or TTY 1-800-325-0778, or visit our Internet site, Social Security Online, at http://www.socialsecurity.gov.

SUPPLEMENTARY INFORMATION: We are experiencing a significant increase in the number of initial claims for disability insurance benefits and Supplemental Security Income (SSI) payments on the basis of disability, and we expect this trend to continue. The increasing volume of claims, coupled with the backlog of disability cases in the hearings process, underscores our need to process cases more efficiently by using advanced technologies.

Applicants for disability insurance benefits and SSI payments on the basis of disability must provide medical evidence to support their claims for benefits. We assist these applicants in obtaining medical records. We use these medical records to make disability determinations for more than 2.6 million people who apply each year for benefits. We rely on medical providers such as doctors, hospitals, clinics, and others in the healthcare field to respond to our requests for medical records in a timely manner.

We are now in a position to use health IT to transform the disability process. Health IT is an electronic system that provides for a secure exchange of data between health care consumers and providers. We intend to use health IT in developing medical evidence and requesting, receiving, and managing medical information. By using health IT, we will be able to request and receive medical information within minutes, rather than the days or months it may take to receive medical evidence by traditional methods. With the advent of health IT, we will be able to replace a largely paper-based, labor intensive, manual process with system-to-system data exchange transactions.

We have set $15 as the reasonable reimbursement to non-Federal medical providers for their costs in supplying medical records through health IT in response to a request. The $15 rate is based on our average payment for medical records obtained through non-health IT processes. As increasing numbers of medical providers incorporate health IT and the market for health IT records exchanges develops, we anticipate that we will develop more detailed information about the reasonable costs for obtaining medical records through health IT. Consequently, we will periodically review the uniform national rate for reimbursing all non-federal medical providers for the reasonable costs of supplying health IT medical records.

When we revise the uniform national rate, we will publish another notice in the Federal Register.

Dated: January 4, 2010.
Michael J. Astrue,
Commissioner of Social Security.

[FR Doc. 2010-225 Filed 1-8-10; 8:45 am]

BILLING CODE 4191-02-P